DEPARTMENT OF ENERGY

Federal Energy Regulatory Commission

Combined Notice of Filings

Take notice that the Commission has received the following Natural Gas Pipeline Rate and Refund Report filings:

Filings Instituting Proceedings

Docket Numbers: RP12-796-000.

Applicants: Wyoming Interstate Company, LLC.

Description: CO2 Gas Quality Settlement Filing of Wyoming Interstate Company, LLC.

Filed Date: 6/11/12.

Accession Number: 20120611-5015.

Comments Due: 5 p.m. ET 6/28/12.

Docket Numbers: RP12-250-000.

Applicants: Kern River Gas Transmission Company.

Description: 2012 Motion Filing to be effective 6/20/2012.

Filed Date: 6/20/12.

Accession Number: 20120620-5055.

Comments Due: 5 p.m. ET 7/2/12.

Docket Numbers: RP12-816-000.

Applicants: El Paso Natural Gas Company.

Description: Reduction to Specified Rates on an Interim Basis to be effective 7/1/2012.

Filed Date: 6/20/12.

Accession Number: 20120620-5117.

Comments Due: 5 p.m. ET 7/2/12.

Docket Numbers: RP12-817-000.

Applicants: Colorado Interstate Gas Company LLC.

Description: Fuel Filing to be effective 7/1/2012.

Filed Date: 6/20/12.

Accession Number: 20120620-5118.

Comments Due: 5 p.m. ET 7/2/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: June 21, 2012.
Nathaniel J. Davis, Sr.,
Deputy Secretary.

[FR Doc. 2012-15736 Filed 6-26-12; 8:45 am]

BILLING CODE 6717-01-P